DEPARTMENT OF TRANSPORTATION

Federal Aviation Administration

14 CFR Part 39

[Docket No. FAA-2005-21155; Directorate Identifier 2005-NE-14-AD; Amendment 39-14099; AD 2005-09-51]

RIN 2120-AA64

Airworthiness Directives; Turbomeca Arrius 2F Turboshaft Engines

AGENCY: Federal Aviation Administration (FAA), DOT.

ACTION: Final rule; request for comments.

SUMMARY: This document publishes in the Federal Register an amendment adopting emergency airworthiness directive (AD) 2005-09-51 that we sent previously to all known U.S. owners and operators of certain Turbomeca Arrius 2F turboshaft engines. This AD requires before further flight, replacing the Module 2 on certain engines listed by serial number (SN) in this AD. This AD results from a report of the failure of a high pressure turbine (HPT) blade and damage to two other HPT blades in a Turbomeca Arrius 2F turboshaft engine. We are issuing this AD to prevent failure of the engine and subsequent loss of power.

DATES: This AD becomes effective June 3, 2005 to all persons except those persons to whom it was made immediately effective by emergency AD 2005-09-51, issued on April 28, 2005, which contained the requirements of this amendment.

We must receive any comments on this AD by July 18, 2005.

ADDRESSES: Use one of the following addresses to comment on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

FOR FURTHER INFORMATION CONTACT: Christopher Spinney, Aerospace Engineer, Engine Certification Office, FAA, Engine and Propeller Directorate, 12 New England Executive Park, Burlington, MA 01803-2599, telephone (781) 238-7175; fax (781) 238-7199.

SUPPLEMENTARY INFORMATION: The Direction General De L'Aviation Civile (DGAC), which is the airworthiness authority for France, recently notified us that an unsafe condition might exist on certain Turbomeca Arrius 2F turboshaft engines. The DGAC advises that on March 31, 2005, the failure of an HPT blade and damage to two other HPT blades in a Turbomeca Arrius 2F turboshaft engine caused an in-flight engine shutdown (IFSD). That IFSD resulted in loss of the helicopter and fatalities and injuries to the occupants. A preliminary investigation of the engine found that a ferrule started a disturbance that reduced the cooling effect of the secondary air system. The secondary air system cools the HPT. Turbomeca identified 38 engines that might contain a configuration similar to the engine involved in the accident. This condition, if not corrected, could result in failure of the engine and subsequent loss of power. On April 28, 2005, we issued emergency AD 2005-09-51 that applies to certain Turbomeca Arrius 2F turboshaft engines. That AD requires before further flight, replacing the Module 2 on certain engines listed by SN in that AD.

Bilateral Airworthiness Agreement

This Turbomeca Arrius 2F turboshaft engine model is manufactured in France and is type certificated for operation in the United States under the provisions of section 21.29 of the Federal Aviation Regulations (14 CFR 21.29) and the applicable bilateral airworthiness agreement. Under this bilateral airworthiness agreement, the DGAC kept the FAA informed of the situation described above. We have examined the findings of the DGAC, reviewed all available information, and determined that AD action is necessary for products of this type design that are certificated for operation in the United States.

FAA's Determination and Requirements of This AD

Since the unsafe condition described is likely to exist or develop on other engines of the same type design, we issued emergency AD 2005-09-51 to prevent failure of the engine and subsequent loss of power. This AD requires before further flight, replacing the Module 2, on certain engines listed by SN in this AD.

FAA's Determination of the Effective Date

Since an unsafe condition exists that requires the immediate adoption of this AD, we have found that notice and opportunity for public comment before issuing this AD are impracticable, and that good cause existed to make the AD effective immediately on April 28, 2005, to all known U.S. owners and operators of Turbomeca Arrius 2F turbofan engines. These conditions still exist, and we are publishing the AD in the Federal Register as an amendment to Section 39.13 of part 39 of the Code Federal Regulations (14 CFR part 39) to make it effective to all persons.

Interim Action

These actions are interim actions and we may take further rulemaking actions in the future.

Comments Invited

This AD is a final rule that involves requirements affecting flight safety and was not preceded by notice and an opportunity for public comment. However, we invite you to send us any written relevant data, views, or arguments regarding this AD. Send your comments to an address listed under ADDRESSES. Include “AD Docket No. FAA-2005-21155; Directorate Identifier 2005-NE-14-AD” in the subject line of your comments. We specifically invite comments on the overall regulatory, economic, environmental, and energy aspects of the rule that might suggest a need to modify it.

We will post all comments we receive, without change, to http://dms.dot.gov, including any personal information you provide. We will also post a report summarizing each substantive verbal contact with FAA personnel concerning this AD. Using the search function of the DMS web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the AD, any comments received, and any final disposition in person at the DMS Docket Offices between 9 a.m. and 5 p.m., Monday through Friday, except Federal holidays. The Docket Office (telephone (800) 647-5227) is located on the plaza level of the Department of Transportation Nassif Building at the street address stated in ADDRESSES. Comments will be available in the AD docket shortly after the DMS receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2005-09-51 Turbomeca: Amendment 39-14099. Docket No. FAA-2005-21155; Directorate Identifier 2005-NE-14-AD.

Effective Date

(a) This airworthiness directive (AD) becomes effective June 3, 2005, to all persons except those persons to whom it was made immediately effective by emergency AD 2005-09-51, issued April 28, 2005, which contained the requirements of this amendment.

Affected ADs

(b) None.

Applicability

(c) This AD applies to certain Turbomeca Arrius 2F turboshaft engines listed by serial number (SN) in Table 1 of this AD. These engines are installed on, but not limited to, Eurocopter EC 120B Helicopters.

Table 1.—Engine and Module Serial Numbers
Engine SN | Module 2 SN
34416 | 01045
34417 | 01063
34418 | 01052
34419 | 01053
34420 | 01067
34421 | 01068
34422 | 01051
34423 | 01078
34424 | 01079
34425 | 01080
34426 | 01083
34427 | 01089
34428 | 01090
34429 | 01097
34430 | 01098
34431 | 01099
34432 | 01102
34433 | 01103
34434 | 01109
34435 | 01110
34436 | 01121
34437 | 01122
34438 | 01123
34439 | 01136
34440 | 01139
34441 | 01140
34442 | 01138
34443 | 01141
34444 | 01142
34445 | 01146
34446 | 01147
34447 | 01148
34448 | 01164
34449 | 01165
34450 | 01177
Not Installed | 01149
34033 | 00125
34177 | 00446

Unsafe Condition

(d) This AD results from failure of a high pressure turbine (HPT) blade and damage to two other HPT blades in a Turbomeca Arrius 2F turboshaft engine on March 31, 2005. We are issuing this AD to prevent failure of the engine and subsequent loss of power.

Compliance

(e) You are responsible for having the actions required by this AD performed before further flight, unless the actions have already been done.

Replacing the Module 2

(f) Before further flight, on Turbomeca Arrius 2F engines that have a SN listed in Table 1 of this AD, remove the Module 2 and replace the Module with a Module 2 that was overhauled or that has a SN not listed in Table 1 of this AD.

Alternative Methods of Compliance

(g) The Manager, Engine Certification Office, has the authority to approve alternative methods of compliance for this AD if requested using the procedures found in 14 CFR 39.19.

Related Information

(h) Direction General De L'Aviation Civile Emergency airworthiness directive No. UF-2005-073, dated April 27, 2005, also addresses the subject of this AD.

Issued in Burlington, Massachusetts, on May 13, 2005.
Robert J. Ganley,
Acting Manager, Engine and Propeller Directorate, Aircraft Certification Service.

[FR Doc. 05-9982 Filed 5-18-05; 8:45 am]

BILLING CODE 4910-13-P